DEPARTMENT OF ENERGY

10 CFR Part 430

[Docket Number EERE-2012-BT-STD-0045]

RIN 1904-AC87

Energy Conservation Program: Energy Conservation Standards for Ceiling Fans

AGENCY: Office of Energy Efficiency and Renewable Energy, Department of Energy.

ACTION: Request for information.

SUMMARY: Through this Request for Information (RFI), the U.S. Department of Energy (DOE) seeks certain information to help inform its current rulemaking to consider setting energy conservation standards for ceiling fans. Specifically, DOE seeks information on the interaction between ceiling fan and air conditioning usage. To inform interested parties and to facilitate this process, DOE has identified several related issues in this RFI on which DOE particularly seeks to receive comment and data from stakeholders and the public.

DATES: Written comments and information are requested on or before November 21, 2013.

ADDRESSES: Interested persons are encouraged to submit comments using the Federal eRulemaking Portal at http://www.regulations.gov. Follow the instructions for submitting comments. Alternatively, interested persons may submit comments, identified by docket number EERE-2012-BT-STD-0045 and/or regulatory identification number (RIN) 1904-AC87, by any of the following methods:

• Email: CeilingFanLightKits2012STD0045@ee.doe.gov. Include docket number EERE-2012-BT-STD-0045 and/or RIN 1904-AC87 in the subject line of the message. All comments should clearly identify the name, address, and, if appropriate, organization of the commenter. Submit electronic comments in Word Perfect, Microsoft Word, PDF, or ASCII file format, and avoid the use of special characters or any form of encryption.

• Postal Mail: Ms. Brenda Edwards, U.S. Department of Energy, Building Technologies Office, Mailstop EE-2J, Framework Document for Ceiling Fans and Ceiling Fan Light Kits (Docket No. EERE-2012-BT-STD-0045; RIN 1904-AC87), 1000 Independence Avenue SW., Washington, DC 20585-0121. If possible, please submit all items on a compact disc (CD), in which case it is not necessary to include printed copies.

• Hand Delivery/Courier: Ms. Brenda Edwards, U.S. Department of Energy, Building Technologies Office, Sixth Floor, 950 L'Enfant Plaza SW., Washington, DC 20024. Telephone: (202) 586-2945. If possible, please submit all items on a CD, in which case it is not necessary to include printed copies.

Instructions: All submissions received must include the agency name and docket number or RIN for this rulemaking. No telefacsimilies (faxes) will be accepted.

Docket: For access to the docket to read background documents, or comments received, go to the Federal eRulemaking Portal at http://www.regulations.gov.

FOR FURTHER INFORMATION CONTACT: Requests for additional information may be sent to Ms. Lucy deButts, U.S. Department of Energy, Office of Energy Efficiency and Renewable Energy, Building Technologies Office, EE-2J, 1000 Independence Avenue SW., Washington, DC 20585-0121. Telephone: (202) 287-1604. Email: ceiling_fans@ee.doe.gov.

Mr. Eric Stas, U.S. Department of Energy, Office of the General Counsel, GC-71, 1000 Independence Avenue SW., Washington, DC 20585-0121. Telephone: (202) 586-9507. Email: Eric.Stas@hq.doe.gov.

For information on how to submit or review comments, contact Ms. Brenda Edwards, U.S. Department of Energy, Office of Energy Efficiency and Renewable Energy, Building Technologies Office, EE-2J, 1000 Independence Avenue SW., Washington, DC 20585-0121. Telephone (202) 586-2945. Email: Brenda.Edwards@ee.doe.gov.

SUPPLEMENTARY INFORMATION:

I. Introduction

Title III, Part B ¹ of the Energy Policy and Conservation Act of 1975 (EPCA or “the Act”), Public Law 94-163 (42 U.S.C. 6291-6309, as codified), sets forth various provisions designed to improve energy efficiency and established the Energy Conservation Program for Consumer Products Other Than Automobiles.² The Energy Policy Act of 2005 (EPACT 2005), Public Law 109-58, amended EPCA and provided in relevant part that DOE may establish energy conservation standards for ceiling fans. 42 U.S.C. 6295(ff).

¹ For editorial reasons, upon codification in the U.S. Code, Part B was redesignated as Part A.

² All references to EPCA in this document refer to the statute as amended through the American Energy Manufacturing Technical Corrections Act (AEMTCA), Public Law 112-210 (Dec. 18, 2012).

On March 15, 2013, DOE published in the Federal Register a notice of public meeting and availability of the “Energy Conservation Standards Rulemaking Framework Document for Ceiling Fans and Ceiling Fan Light Kits” (Framework Document), with a public comment period running through April 29, 2013. 78 FR 16443. The Framework Document describes the approaches DOE anticipates using to evaluate energy conservation standards for ceiling fans. On May 2, 2013, DOE published a notice in the Federal Register extending the comment period on the Framework Document until June 14, 2013. 78 FR 25626.

During the Framework Document comment period, ceiling fan manufacturers and their industry association stated that ceiling fans are inherently energy-saving appliances because they reduce the use of air conditioning. (American Lighting Association, No. 39 at p. 1) ³ Furthermore, manufacturers expressed concern that if DOE sets overly stringent standards for ceiling fans, resulting increases in product cost could result in decreased shipments and a corresponding increase in air conditioner use by consumers, thereby potentially negating the energy savings of the current rulemaking. (Hunter Fan Company, No. 37 at p. 2)

³ A notation in this form provides a reference for information that is in the docket of DOE's rulemaking to develop energy conservation standards for ceiling fans and ceiling fan light kits (Docket No. EERE-2012-BT-STD-0045), which is maintained at www.regulations.gov. This notation indicates that the statement preceding the reference was made by American Lighting Association, and the statement appears at page 1 of document number 39 in the docket.

In light of these comments, DOE requests information and data from the public regarding the interaction between ceiling fans and air conditioning products. Although DOE welcomes any relevant data on this topic, section II (Discussion) presents questions on which the agency is particularly interested in receiving public input.

II. Discussion

DOE seeks information from interested parties on the following topics regarding the interaction between consumer use of ceiling fans and air-conditioning products. Specifically, DOE seeks information and data on how use of a ceiling fan affects the way that consumers set the thermostat of their central air conditioner or the frequency of use of a room air conditioner. Related questions include:

• What percentage of homes have a ceiling fan, a central air conditioner, room air conditioner(s), more than one of these products, or none of these products?

• What percentage of consumers who own both a ceiling fan and an air conditioner set the thermostat differently when a ceiling fan is operating than when a ceiling fan is not operating?

• What percentage of consumers who own both a ceiling fan and an air conditioner leave the thermostat at the same setting regardless of ceiling fan operation?

• For those consumers that do adjust their thermostat due to a ceiling fan, how much do they adjust the thermostat, and do they adjust it warmer or colder?

DOE seeks information and data on how use of a ceiling fan affects the operating duration, operating time (e.g., time of day or year), and energy consumption of an air conditioner. Related questions include:

• Do consumers with both a ceiling fan and an air conditioner operate their air conditioner for a different number of hours than consumers that have an air conditioner but do not have a ceiling fan? If so, what is the difference in operating duration?

• Do consumers with both a ceiling fan and an air conditioner operate their air conditioner at different times of day or in different months than consumers that have an air conditioner but do not have a ceiling fan? If so, how do these patterns differ?

• Based on the results to the previous questions, do consumers with both a ceiling fan and an air conditioner use a different amount of energy for air conditioning than consumers that have an air conditioner but do not have a ceiling fan? If so, what is the difference in energy consumption? Does this difference in energy consumption vary by region?

• For the above questions, are there differences between consumers with central air conditioners and consumers with room air conditioners?

DOE seeks information on how ceiling fan ownership affects consumers' decisions about purchasing air conditioning equipment. For example:

• How much more or less likely are consumers to own or purchase an air conditioner if they already have a ceiling fan?

• How much more or less likely are consumers to own or purchase a ceiling fan if they already have an air conditioner?

• Do consumers with a ceiling fan purchase different numbers or sizes of air conditioners than consumers without a ceiling fan? If so, how do these quantities and sizes vary?

• At what price point would consumers stop purchasing ceiling fans and purchase/use air conditioners instead?

III. Public Participation

DOE is also interested in input on other relevant issues that participants believe would affect energy conservation standards applicable to ceiling fans. DOE invites all interested parties to submit in writing by November 21, 2013, comments, information, and data on matters addressed in this notice and on other related matters relevant to DOE's consideration of energy conservation standards for ceiling fans.

After the close of the comment period, DOE will begin collecting data, conducting the analyses, and reviewing the public comments. These actions will be taken to aid in the development of energy conservation standards for ceiling fans. DOE will remain interested in these issues after the close of the comment period on this RFI, and any further comments, information, and data submitted at later stages of the rulemaking will be considered in the notice of proposed rulemaking (NOPR).

DOE considers public participation to be a very important part of the process for developing energy conservation standards. DOE actively encourages the participation and interaction of the public during the comment period at each stage of the rulemaking process. Interactions with and between members of the public provide a balanced discussion of the issues and assist DOE in the rulemaking process. Anyone who wishes to be added to the DOE mailing list to receive future notices and information about this rulemaking should contact Ms. Brenda Edwards at (202) 586-2945, or via email at Brenda.Edwards@ee.doe.gov.

Issued in Washington, DC, on September 30, 2013.
Kathleen B. Hogan,
Deputy Assistant Secretary for Energy Efficiency, Energy Efficiency and Renewable Energy.

[FR Doc. 2013-24612 Filed 10-21-13; 8:45 am]

BILLING CODE 6450-01-P